DEPARTMENT OF DEFENSE

Office of the Secretary

[Docket ID DoD-2013-OS-0209]

Notice of Availability (NOA) for General Purpose Warehouse and Information Technology Center Construction (GPW/IT)—Tracy Site—Environmental Assessment (EA); Finding of No Significant Impact (FONSI)

AGENCY: Defense Logistics Agency, DoD.

ACTION: Notice of Availability (NOA) for General Purpose Warehouse and Information Technology Center Construction (GPW/IT)—Tracy Site—Environmental Assessment (EA) Finding of No Significant Impact (FONSI).

SUMMARY: On October 31, 2013, Defense Logistics Agency (DLA) published a NOA in the Federal Register (78 FR 65300) announcing the publication of the General Purpose Warehouse and Information Technology Center Construction (GPW/IT)—Tracy Site—EA. The EA was available for a 30-day public comment period which ended November 29, 2013. The EA was prepared as required under the National Environmental Policy Act (NEPA) (1969). In addition, the EA complied with DLA Regulation (DLAR) 1000.22. No comments were received during the comment period. This FONSI documents the decision of DLA to construct the GPW/IT at Tracy, California. DLA has determined that the proposed action was not a major federal action significantly affecting the quality of the human environment within the context of NEPA and that no significant impacts on the human environment are associated with this decision.

FOR FURTHER INFORMATION CONTACT: Ann Engelberger at (703) 767-0705 during normal business hours Monday through Friday, from 8:00 a.m. to 4:30 p.m. (EST) or by email: Ann.Engelberger@dla.mil.

SUPPLEMENTARY INFORMATION: The Defense Logistics Agency (DLA) completed an EA to address the potential environmental consequences associated with the construction of a General Purpose Warehouse and Technology Information Center at Defense Distribution Depot San Joaquin, California, Tracy Site. The FONSI incorporates the EA by reference and summarizes the results of the analysis in the EA.

Purpose and Need for Action: The Proposed Action is needed to meet the overall strategy for installation development and sustainment over the short and long term, and to meet current and future mission requirements and national security objectives associated with the DLA Distribution Depot San Joaquin.

Proposed Action and Alternatives: Under the Proposed Action, DLA would construct a GPW in fiscal year (FY) 2014 and an IT Center in FY 2015 at the Tracy Site. The GPW would be approximately 365,500 square feet and would include a 360,000 square feet active bulk warehouse and a 5,500 square feet annex. The active bulk warehouse would be composed of four bays. The annex would include administrative offices; restrooms; locker rooms; mechanical, electrical and communications rooms; a multi-purpose room; and eight sprinkler riser annexes. The proposed GPW would be constructed in an area that is bordered by Ennis Drive to the north, 7th Street to the east, B Street to the south and an existing parking lot to the northwest. The project area is currently paved and serves as a trailer parking lot and laydown area (i.e., outside storage). As part of the Proposed Action, DLA would construct a new trailer parking lot (approximately 295,000 square feet) and new laydown area (approximately 240,000 square feet) at the Tracy Site. The trailer parking lot would be constructed in an unimproved, open lot that is bordered by C Street to the north, 5th Street to the east, D Street to the south and 4th Street to the west. The laydown area would be constructed in an unimproved, irregularly shaped open lot that is intersected by 5th Street starting approximately 200 feet south of D Street and continuing approximately 800 feet to the south. The project area also includes approximately 100 feet to the west of 5th Street and approximately 150 to 400 feet east of 5th Street, bound by Ennis Drive to the southeast.

The proposed IT Center would be approximately 44,900 square feet (31,400 square feet Information Systems facility and 13,400 square feet electronic equipment storage area). The project would include a 48,200 square feet parking lot; computer/server rooms with raised flooring; administrative offices; conference rooms; storage areas; break rooms; restrooms and public access areas. The IT Center would be constructed in the northwestern-most corner of the Tracy Site, north of Building 201 and A Street, and immediately west of West Street. The majority of the project area for the proposed IT Center is currently paved and serves as a personally owned vehicle (POV) parking lot.

The IT Center would house the Defense Automatic Addressing Center (DAASC) and Joint Staff, Command and Control (J6) organizations and all their computer/server equipment. The IT Center would also include computer/server rooms with raised flooring; administrative offices; conference rooms; storage areas; break rooms; restrooms and public access areas. Supporting facilities for the GPW and IT Center would include all utilities (i.e., potable water, sanitary server and wastewater distribution, electricity and natural gas). Upon completion of the Proposed Action, the total impervious surface area of the GPW, trailer parking lot, laydown area, IT Center and POV parking lot would be approximately 512,100 square feet. Because the entire project area for the proposed GPW and the majority of the project area for the proposed IT Center is currently paved and improved, the overall increase in impervious surface area upon completion of the Proposed Action would be minor.

Under the No Action Alternative, DLA would not construct the GPW or IT Center. Modern facilities would not be provided and operational conditions would not be improved. In general, implementation of the No Action Alternative would require that DLA continue to operate under substandard, inefficient, and in some cases, unsafe conditions. These deficiencies would impair DLA's future ability to sustain current and future national security objectives and other mission requirements successfully. The No Action Alternative would not meet the purpose of and need for the action.

Potential Environmental Impacts: Potential impacts from the Proposed Action and No Action Alternative were analyzed for the following environmental resources: Land use, noise, air quality, geological resources, water resources, biological resources, health and safety, utilities and infrastructure (including transportation), hazardous materials and wastes, socioeconomic resources and environmental justice, and cultural resources. Long-term, adverse impacts on geology, soils and water resources would be expected from a long-term increase in storm water runoff volume and velocity due to an increase in impervious surface area. However, impacts would be minor because the majority of the project areas are either currently paved or previously disturbed. Once construction of the GPW and IT Center is completed, there would be a long-term increase in demand for water, wastewater treatment, electricity and natural gas. No significant impacts on any of the aforementioned environmental resources would be expected from the implementation of the Proposed Action.

Determination: DLA has determined that implementation of the Proposed Action will not have a significant effect on the human environment. Human environment was interpreted comprehensively to include the natural and physical environment and the relationship of people with that environment. Specifically, no highly uncertain or controversial impacts, unique or unknown risk or cumulatively significant effects were identified. Implementation of the Proposed Action will not violate any federal, state or local laws. Based on the results of the analyses performed during the preparation of the environmental assessment, David Rodriguez, Director, DLA Installation Support, concludes that construction of the GPW/IT project does not constitute a major federal action significantly affecting the quality of the human environment within the context of NEPA. Therefore, an environmental impact statement for the proposed action is not required.

Dated: December 18, 2013.
Aaron Siegel,
Alternate OSD Federal Register Liaison Officer, Department of Defense.

[FR Doc. 2013-30569 Filed 12-23-13; 8:45 am]

BILLING CODE 5001-06-P